DEPARTMENT OF ENERGY

Information Collection Extension

AGENCY: Department of Energy.

ACTION: Submission for Office of Management and Budget (OMB) review; comment request.

SUMMARY: The Department of Energy (DOE) has submitted an information collection request to the OMB for extension under the provisions of the Paperwork Reduction Act of 1995. The information collection requests a three-year extension of its Department-wide Printing and Publishing Activities, OMB Control Number 1910-0100. This information collection request covers information necessary to the Department for gathering and compiling data from its facilities nation-wide on the usage of in-house printing and duplicating facilities as well as all printing productions from external Government Printing Office vendors.

DATES: Comments regarding this collection must be received on or before May 5, 2008. If you anticipate that you will be submitting comments, but find it difficult to do so within the period of time allowed by this notice, please advise the OMB Desk Officer of your intention to make a submission as soon as possible. The Desk Officer may be telephoned at 202-395-4650.

ADDRESSES: Written comments should be sent to: DOE Desk Officer, Office of Information and Regulatory Affairs, Office of Management and Budget, New Executive Office Building, Room 10102, 735 17th Street, NW., Washington, DC 20503; and to: Dallas Woodruff, Lead Printing Specialist, U.S. Department of Energy, M/S MA-421, 1000 Independence Ave., SW., Washington, DC 20585; or by fax at 202-586-0753 or by e-mail at dallas.woodruff@hq.doe.gov.

FOR FURTHER INFORMATION CONTACT: The individuals listed in ADDRESSES.

SUPPLEMENTARY INFORMATION: This information collection request contains: (1) OMB No. 1910-0100; (2) Information Collection Request Title: Department-wide Printing and Publishing Activities; (3) Purpose: The information collected is reported to the Joint Committee on Printing (JCP). It provides the JCP a comprehensive overview of Department-wide printing and duplicating activities; (4) Estimated Number of Respondents: 163; (5) Estimated Total Burden Hours: 1607; (6) Number of Collections: The information collection request contains five (5) information and/or recordkeeping requirements.

Statutory Authority: See 44 U.S.C. 103, 501 & 504, and the Government Printing and Binding Regulations, Title IV; Joint Committee on Printing Report Forms.

Issued in Washington, DC on March 27, 2008.
Mary R. Anderson,
Director, Office of Administrative Management and Support.

[FR Doc. E8-6906 Filed 4-2-08; 8:45 am]

BILLING CODE 6450-01-P